DEPARTMENT OF EDUCATION

Training of Interpreters for Individuals Who Are Deaf or Hard of Hearing and Individuals Who Are Deaf-Blind

AGENCY: Office of Special Education and Rehabilitative Services, Department of Education.

ACTION: Notice of final priorities and definitions.

SUMMARY: The Assistant Secretary for Special Education and Rehabilitative Services announces three priorities and definitions under the Training of Interpreters for Individuals Who Are Deaf or Hard of Hearing and Individuals Who Are Deaf-Blind program. The Assistant Secretary may use these priorities and definitions for competitions in fiscal year (FY) 2005 and later years. We take this action to focus on training and education as an identified area of national and regional need. We intend for the priorities to improve the quality of interpreters in the field by providing quality educational opportunities with consumer involvement throughout the process and with a specific focus on interpreters working with consumers of vocational rehabilitation (VR) services.

EFFECTIVE DATE: These priorities and definitions are effective September 2, 2005.

FOR FURTHER INFORMATION CONTACT: Annette Reichman, U.S. Department of Education, 400 Maryland Avenue, SW., room 5032, Potomac Center Plaza, Washington, DC 20202-2800. Telephone: (202) 245-7489 or via Internet: Annette.Reichman@ed.gov.

If you use a telecommunications device for the deaf (TDD), you may call (202) 205-8352.

Individuals with disabilities may obtain this document in an alternative format (e.g., Braille, large print, audiotape, or computer diskette) on request to the contact person listed under FOR FURTHER INFORMATION CONTACT.

SUPPLEMENTARY INFORMATION: Section 302(f) of the Rehabilitation Act of 1973, as amended (Act), and the regulations for this program in 34 CFR 396.1 state that the Training of Interpreters for Individuals Who Are Deaf or Hard of Hearing and Individuals Who Are Deaf-Blind program is designed to establish interpreter training programs or to assist ongoing training programs to train a sufficient number of qualified interpreters in order to meet the communications needs of individuals who are deaf or hard of hearing and individuals who are deaf-blind. The Training of Interpreters for Individuals Who Are Deaf or Hard of Hearing and Individuals Who Are Deaf-Blind program provides financial assistance to pay part of the costs to—

(1) Train manual, tactile, oral, and cued speech interpreters;

(2) Ensure the maintenance of the skills of interpreters; and

(3) Provide opportunities for interpreters to raise their level of competence.

Federal statutes, such as the Rehabilitation Act of 1973, as amended, the Individuals with Disabilities Education Act, and the Americans with Disabilities Act established the legal requirements for communication and language access. These requirements led to an ever-increasing demand for qualified interpreters, outstripped the available pool of qualified interpreters, and created a serious ongoing national shortage. In addition, many States have passed, or are now proposing, licensure laws for interpreters, requiring interpreters working in these States to meet specific qualifications. In the last several years the shortage of qualified interpreters has been exacerbated by the establishment of “Video Relay Services” call centers throughout the country. These centers actively recruit interpreters from surrounding communities and postsecondary institutions to work as video relay interpreters in these call centers.

Simultaneously, deaf consumers of interpreting services are demanding higher quality interpreting services that meet their individual needs. Consumers and consumer organizations have expressed interest in being substantively involved in the identification, development, and delivery of the educational opportunities provided through these priorities.

In order to train qualified interpreters to better meet the demand from consumers and consumer organizations, interpreter educators must be sufficient in number and knowledgeable of current best practices. There are, however, very few programs that prepare interpreter educators to teach the interpreting process and the skill of interpreting. Consequently, many educators teaching at approximately 137 interpreter training programs throughout the country have had little or no opportunity to study how to teach interpretation.

To address these issues and to contribute toward the education and training of a sufficient number of qualified interpreters to meet the communications needs of individuals who are deaf or hard of hearing and individuals who are deaf-blind, the Assistant Secretary proposed to establish priorities for a National Interpreter Education Center and a coordinated Regional Interpreter Education Center or Centers working with and through Local Partner Networks.

We published a notice of proposed priorities and definitions for this program in the Federal Register on November 3, 2004 (69 FR 64240). That notice included a discussion of significant issues and analysis used in the development of the priorities and definitions.

Except for minor editorial and technical revisions, there are four differences between the notice of proposed priorities and definitions and this final notice. They are:

1. We have established a new priority within the existing priority from 34 CFR 396.33 to support applications from postsecondary institutions that offer and have awarded at least a bachelor's degree in interpreter education.

2. The National Interpreter Education Center and the Regional Interpreter Education Centers will be required to reserve 10 percent of their annual budgets to cover the costs of specific collaborative efforts between the centers.

3. A special focus on training opportunities for trilingual deaf and hearing interpreters, particularly those who are Spanish and English speaking and fluent in both American Sign Language and Mexican Sign Language or other sign languages used by Spanish-speaking communities has been added to Priority 2.

4. In deciding whether to continue the projects for the fourth and fifth years, a review of the National Interpreter Education Center and the Regional Interpreter Education Center or Centers will be conducted by a team consisting of experts selected by the Secretary during the first half of the projects' third year, instead of the last half of the projects' second year as originally proposed.

Analysis of Comments and Changes

In response to our invitation in the notice of proposed priorities and definitions, 60 parties submitted comments. An analysis of the comments and of any changes in the priorities and definitions since publication of the notice of proposed priorities and definitions follows.

Generally, we do not address technical and other minor changes—and suggested changes that we are not authorized to make under the applicable statutory authority.

Comments: Three commenters stated that the priorities should promote the accreditation process for interpreter training programs as a mechanism to document the quality of their outcomes. The commenters suggested that the National Interpreter Education Center partner with the accreditation body under the Conference of Interpreter Trainers as a coordinated effort to strengthen the field of interpreter education.

Discussion: Section 302(f) of the Act and the regulations for this program in 34 CFR 396.1 state that the purpose of grants awarded under this program is to train a sufficient number of qualified interpreters to meet the communications needs of individuals who are deaf or hard of hearing and individuals who are deaf-blind. To accomplish this, grants may be awarded to public and private nonprofit agencies and organizations to pay part of the costs for the establishment of interpreter training programs or to assist those agencies or organizations to conduct training at existing interpreter training programs. The statute and regulations, however, do not provide authority for the program to become directly involved with accreditation of interpreter training programs. The National Interpreter Education Center and the Regional Interpreter Education Centers nonetheless could choose to use the rigors of the accreditation process as one mechanism to document the quality of their educational outcomes.

Change: None.

Comments: Seven commenters suggested that we limit eligibility for the National Interpreter Education Center grant to postsecondary institutions that offer bachelor's degrees or master's degrees in interpreter training. These commenters also suggested that we include interpreter education programs that offer, or that are able to demonstrate that they are well on their way to establishing, a bachelor's degree in interpreter education as eligible applicants for the Regional Interpreter Education Centers grants. Another commenter suggested that one of the functions of the National Interpreter Education Center should be to provide guidance to interpreters who are transitioning from associate's degree level training programs to bachelor's degree level training programs, as part of demonstrating effective practices in interpreter education.

Discussion: The Registry of Interpreters for the Deaf, Inc. (RID), a national and professional organization that certifies interpreters, has recently passed a mandate requiring candidates for certification to have an academic degree. Effective June 30, 2012, candidates for RID certification must have a minimum of a bachelor's degree, and effective June 30, 2016, deaf candidates for RID certification must have a minimum of a bachelor's degree. (See http://www.rid.org/ntsnews.html for the text of the motion that passed.) National Association of the Deaf (NAD), another national and professional organization that certifies interpreters, continues to work closely with RID in blending the two certifying organizations into one entity with the same requirements just outlined.

While RID and NAD do not specify a particular discipline for the bachelor's degree, it is generally recognized that the effectiveness of the message rendered by an interpreter directly correlates with the level of education of the interpreter. We agree that it is important that projects supported by the Rehabilitation Services Administration (RSA) reflect standards currently being established by the field.

The regulations for this program in 34 CFR 396.33 state that the Secretary gives priority to public or private nonprofit agencies or organizations with existing programs that have demonstrated their capacity for providing interpreter training services, including institutions of higher education that meet these criteria.

Within the priority as currently written, the National Interpreter Education Center can choose to provide a special focus on developing guidance for interpreters who are transitioning from associate's degree level training programs to bachelor's degree level training programs, as part of demonstrating effective practices in interpreter education.

Change: We are establishing a new priority within the existing priority from 34 CFR 396.33 to support applications from postsecondary institutions that offer and have awarded at least a bachelor's degree in interpreter education.

Comments: Three commenters stated that we should require that the proposed National Interpreter Education Center and the Regional Interpreter Education Center or Centers become directly involved with the national interpreter certification testing and certification maintenance programs that are provided jointly through NAD and RID.

Discussion: While we recognize the importance of national interpreter certification organizations, including NAD and RID, in clearly defining the parameters of a qualified interpreter, the Act requires that this program train a sufficient number of interpreters through grant awards to pay part of the costs for the establishment of interpreter training programs or to assist existing interpreter training programs. The statute and regulations do not provide authorization for the program to become directly involved with the certification of interpreters.

Change: None.

Comments: Two commenters suggested that 10 percent of the projects' annual budgets be reserved to support the collaboration between the National Interpreter Education Center and the Regional Interpreter Education Center or Centers including travel, communications, materials development, Web site development, and other collaborative efforts.

Discussion: The National Interpreter Education Center will be required, in part, to coordinate the activities of the Regional Interpreter Education Center or Centers and to ensure the effectiveness of the educational opportunities offered by the Regional Interpreter Education Center or Centers. We agree that the budgets of the National Interpreter Education Center and the Regional Interpreter Education Center or Centers should allow for these collaborative efforts.

Change: We are revising the priorities to require that 10 percent of the annual budget for the National Interpreter Education Center and the Regional Interpreter Education Center or Centers be reserved for specific collaborative efforts.

Comments: One commenter suggested that the Regional Interpreter Education Centers specifically incorporate opportunities for informal interaction with the community at large, as a required part of the training opportunities.

Discussion: We concur with the suggestion that opportunities for informal interaction with the community at large should be provided. We believe that the requirement for the use of language immersion experiences in American Sign Language, Conceptually Accurate Signed English, oral communication, tactile communication, and cued speech as written would include this informal interaction with deaf consumers in the local communities.

Change: None.

Comments: Eight commenters emphasized the importance of using distance technologies, including videoconferencing capabilities, to deliver interpreter services from remote locations and to enable interpreter education programs to offer distance education opportunities. One commenter stated that the National Interpreter Education Center should focus on emerging videoconferencing technologies as a resource.

Discussion: The priorities explicitly require the Regional Interpreter Education Center or Centers to use “state-of-the-art” technologies for training on how to deliver interpreter services from remote locations and in handling various technologies during interpreter assignments. In addition, the priority states that the delivery of educational opportunities may not be limited to traditional methods, and distance technologies and delivery are included in the list of innovative practices to be used.

Change: None.

Comments: Three commenters stated that improvements in interpreting skills should be evaluated by alternative measures of qualitative and quantitative data rather than pre- and post-assessment. Assessment measures should be flexible to allow for the development of an individualized training plan based on a person's unique abilities.

Discussion: The National Interpreter Education Center is required to collect, analyze, and report to RSA the pre- and post-assessment data of the educational activities conducted through the Regional Interpreter Education Center or Centers. The National Interpreter Education Center also is required to collect, evaluate, and report to RSA both the qualitative and quantitative data on the educational activities provided by the Regional Interpreter Education Center or Centers, based on clear, measurable goals that are linked to results demonstrating overall program effectiveness. The Regional Interpreter Education Center or Centers are required to provide qualitative and quantitative data on the educational activities conducted, pre- and post-assessments, portfolios produced, participant demographics, and other pertinent information to the National Interpreter Education Center for the purpose of evaluating and reporting program effectiveness. These priorities allow for considerable flexibility with assessment measures to be used and at the same time clearly stress the importance of demonstrating measurable program results.

Change: None.

Comments: Three commenters stated that the primary focus of the National Interpreter Education Center on training for interpreter educators should either be eliminated from the final priorities, due to the unrealistic scope of activities, or be limited to in-service training opportunities. In addition, one of the commenters stated that the investment in a pre-service interpreter educator program would not see dividends for several years.

Discussion: One critical issue in the field of interpreter education is that very few programs are available to prepare interpreter educators to teach the interpreting process. As a result, many educators teaching at the approximately 137 interpreter training programs have had few opportunities to study how to teach interpretation or to learn about the current best practices in the field. To address this issue, Priority 1 focuses on the role of the National Interpreter Education Center to provide state-of-the-art educational opportunities to interpreter educators. Priority 1 specifically states that the National Interpreter Education Center must provide educational opportunities to working interpreter educators who need to obtain, enhance, or update their training on effective practices in interpreter education and to new interpreter educators. Priority 1 does not impose limitations on how training, in-service or pre-service, should be or can be offered to interpreter educators, except that the National Interpreter Education Center must identify and promote effective practices in interpreter education. Thus, the scope of required activities for training interpreter educators is realistic. While the initial investment in training interpreter educators may not see dividends for several years, we believe that the long-term return on investment will demonstrate a positive gain and considerable impact on improving the quality of interpreters.

Change: None.

Comments: Four commenters stated that the focus on training interpreters to provide better services to VR consumers, while worthwhile, does not fully encompass the different settings, including postsecondary programs, in which interpreters work, and that this focus would lead to different types of training than currently exist.

Discussion: The Regional Interpreter Education Center or Centers, with all of their training activities, must include cooperative efforts with consumers, consumer organizations, community resources, and service providers, especially VR agencies. The Regional Interpreter Education Center or Centers also must focus on interpreting in specialized environments such as rehabilitation, legal, medical, mental health, or multicultural. While Priority 2 emphasizes that the primary focus of the educational opportunities must be on interpreting for consumers of VR services, the training activities outlined in Priority 2 are not limited solely to rehabilitation settings, but encompass the broader range of environments that participants in the VR process may encounter.

Change: None.

Comments: Eight commenters, while supportive of the emphasis on the Local Partner Networks under the Regional Interpreter Education Center or Centers priority, stated that the requirements for the Local Partner Networks should be expanded to include formal agreements with pertinent stakeholders and partners, including educational institutions and organizations that have similar goals, and should allow for the unique needs of each geographical area. One additional commenter, while also supportive of the emphasis on the Local Partner Networks under this priority, stated that the requirements for the Local Partner Networks were excessively formal and may be too difficult and expensive to achieve.

Discussion: The Regional Interpreter Education Center or Centers must develop formal relationships with Local Partner Networks as defined in the notice of final priorities and definitions. The Local Partner Networks are expected to work with the Regional Interpreter Education Center or Centers to implement effective practices in interpreter education, implement program quality indicators, and provide education activities to interpreters. The mechanism that each Regional Interpreter Education Center chooses to develop the required formal relationships among the specific parties is left to the discretion of the Center to allow for differing geographic and demographic needs.

Change: None.

Comments: Three commenters stated that, while they are supportive of the emphasis on mentoring as an important training component under this project, the priorities need to specifically define “mentoring,” since mentoring is not a substitution for the pre-service training that beginning interpreting students need. In addition, one of the three commenters stated that a framework for an “induction system” should be included, in which the students of pre-service interpreter training programs have the opportunity to become mentees and to work with qualified mentors, while being inducted as novice professionals into the field of interpreting.

Discussion: The Regional Interpreter Education Center or Centers are required to educate deaf individuals and practicing deaf and hearing interpreters on how to serve as effective mentors, in addition to providing mentoring to novice and working interpreters who need additional feedback and experience to become qualified interpreters. When training mentors, grantees are expected to use the materials already developed by the current national project or by other existing mentoring programs. The current national project on Training Interpreter Educators and Mentors has developed a master mentor training program curriculum and an on-line program teaching experienced interpreters how to mentor novice interpreters. (A description of this project can be found at the following Web site: http://www.asl.neu.edu/tiem.online/. The materials will also be available at the National Clearinghouse of Rehabilitation Training Materials at Oklahoma State University, 206 W. Sixth Street, Stillwater, OK 74078-4080, upon completion of the national project at the end of September 2005.) While not a requirement, the National Interpreter Education Center and the Regional Interpreter Education Center or Centers may also use this opportunity to establish the framework for an induction system in which the students of pre-service interpreter training programs have the opportunity to become mentees and to work with qualified mentors, while being inducted as novice professionals into the field of interpreting.

Change: None.

Comments: Six commenters stated that these priorities needed to place a greater emphasis on educating individuals who are deaf and individuals who are deaf-blind on how to become effective mentors for deaf sign language interpreters and hearing sign language interpreters. This will give the deaf community a more meaningful and genuine role in the training of novice and working interpreters.

Discussion: The priorities highlight the importance of involving deaf consumers in every aspect of the National Interpreter Education Center and the importance of educating deaf individuals and practicing deaf and hearing interpreters to serve as mentors to novice and working interpreters. In addition, the definition of “deaf” includes all individuals who are deaf, hard of hearing, late deafened, and deaf-blind. Through the priorities we have also emphasized the importance of training not only individuals who are deaf, but also individuals who are deaf-blind, on how to become effective mentors for deaf sign language interpreters and hearing sign language interpreters.

Change: None.

Comments: One commenter stated that spoken Spanish and American Sign Language interpreter training should be included as a priority for those areas serving a large Spanish-speaking population.

Discussion: The Regional Interpreter Education Center or Centers are required to provide training specific to the needs of the population in their regions. This may include a focus on interpreting in specialized environments, including multicultural and multilingual environments. We agree that the demand for qualified interpreters who are fluent in spoken Spanish, spoken English, and American Sign Language is increasing, particularly in those regions with a large Spanish-speaking population. Training tailored for Spanish-speaking individuals who are also fluent with spoken and written English, and with both American Sign Language and Mexican Sign Language or other sign languages used by Spanish-speaking communities, is increasingly needed.

Change: In the priority for the Regional Interpreter Education Center or Centers, we have added a special focus for training opportunities for trilingual deaf and hearing interpreters who are fluent in spoken Spanish and English and fluent in both American Sign Language and Mexican Sign Language or other sign languages used by Spanish-speaking communities.

Comments: Two commenters stated that the objectives for the National Interpreter Education Center were too broad, lacked specific focus, and would not produce significant, long-term outcomes. These commenters also questioned whether the focus was on the training of interpreters, on interpreter-educators, or on research.

Discussion: The Act specifically requires that we focus on training a sufficient number of qualified interpreters. In order to meet the need for training increasing numbers of interpreters throughout the country, the priority for the National Interpreter Education Center was developed to focus on collaborating with the Regional Interpreter Education Center or Centers to offer quality interpreter training programs that can show measurable outcomes and develop new and effective practices in interpreter education. The National Interpreter Education Center will also focus on training working and new interpreter educators on effective practices in interpreter education. Thus, while the National Interpreter Education Center is not conducting research, the center will have a specific focus on promoting quality interpreter education and on training interpreter educators with the clear expectation of producing significant long-term outcomes in improving the skills and qualifications of new and working interpreters.

Change: None.

Comments: Five commenters stated that clarification is needed on the specific responsibilities of the National Interpreter Education Center, including this center's oversight of and authority over the Regional Interpreter Education Center or Centers, especially as related to expectations on budget, personnel, and activities. Two of these five commenters also stated that the National Interpreter Education Center would add another, unnecessary level of oversight.

Discussion: The National Interpreter Education Center will not have direct oversight of or authority over the Regional Interpreter Education Center or Centers, in respect to budget, personnel, and activities. Priorities 1 and 2 require collaboration between the National Interpreter Education Center and the Regional Interpreter Education Center or Centers, including—(a) development and implementation of “Program Quality Indicators,” (b) collection, analysis, and reports to RSA of the pre- and post-assessment results and the qualitative and quantitative data of the educational activities conducted through the Regional Interpreter Education Center or Centers, and (c) coordination of activities to ensure effective use of resources and consistency of quality interpreter educational opportunities. Budget expenditures to support these activities will be developed independently by the National Interpreter Education Center and each of the Regional Interpreter Education Center or Centers based on relevant cost principles and any instructions provided by the Department. RSA project officers will maintain the necessary direct oversight of, and authority over, the National Interpreter Education Center and the Regional Interpreter Education Centers in determining appropriate collaborative efforts.

Change: None.

Comments: Six commenters stated that there is great value in the role of the National Interpreter Education Center in developing and applying performance measures and in providing coordination and input for the Regional Interpreter Education Center or Centers based on assessment of needs and outcomes. However, two of these six commenters also cautioned that the effectiveness of the project should not be exclusively based on “numbers” as the primary measuring tool in the provision of educational opportunities and cautioned that one set of standards will be insufficient to meet the needs of a variety of individuals from different cultural and linguistic backgrounds.

Discussion: To demonstrate the effectiveness of the Training of Interpreters for Individuals Who Are Deaf or Hard of Hearing and Individuals Who Are Deaf-Blind program, the U.S. Department of Education requires that grantees provide qualitative and quantitative data based on clear and measurable goals. The measures that will be used for this program are included in the application notice.

Change: None.

Comments: Six commenters stated that these priorities represent a significant change from the projects funded in the past under this program and that the first 18 to 24 months of the project are a critical period of time. As such, an 18-month period before the intensive one-day programmatic review is not enough time for the National Education Interpreter Center to be able to demonstrate evidence of the project's contributions to changed practices and the quality of interpreter education provided.

Discussion: We agree that the first 18 to 24 months of the project, particularly for the National Interpreter Education Center, will be critical, and that additional time will be needed to demonstrate the impact of the project's contributions to changed practices by interpreter training programs and the quality of interpreter education opportunities.

Change: We have modified the priority language to provide that the programmatic review of the National Interpreter Education Center and the Regional Interpreter Education Center or Centers will be conducted during the first half of the projects' third year instead of the last half of the projects' second year.

Comments: Four commenters stated that the priorities must state clearly whether the National Interpreter Education Center and the Regional Interpreter Education Centers will fund interpreter training through either pre-service programs or in-service training activities. While one commenter supported the use of funding solely for in-service training opportunities for those working interpreters without any prior training, the other commenters wanted these funds to be used solely for pre-service educational opportunities.

Discussion: In general, “pre-service” and “in-service” training activities, particularly in postsecondary education settings, are not clearly differentiated. For example, a local college may offer a course over four consecutive weekends, either for working interpreters (in-service) or for undergraduate or graduate credit (pre-service). The intent of these priorities is to support the provision of innovative training opportunities that meet the needs of the field, such as longer-term training of significant scope and sequence that directly result in increasing the number of qualified interpreters. Therefore, grantees have the flexibility to provide training that addresses both pre-service and in-service educational opportunities.

Change: None.

Comments: Thirty commenters stated that the proposed Regional Interpreter Education Center or Centers are a critical component in the structure for providing educational and training opportunities for interpreters. Of these, four commenters stated that there should be a minimum of four to six Regional Interpreter Education Centers. Twenty-six commenters recommended maintaining the current structure of 10 regional projects. The latter commenters expressed concern that the diversity from region to region may not be adequately addressed if the number of regional programs is reduced.

Discussion: In FYs 2000 to 2004, each of the 10 regional interpreter training projects received an average of $150,000 per year. At the same time, there were approximately 137 interpreter training programs throughout the country, which suggests that the national impact of these 10 regional interpreter training projects on enhancing the quality of interpreter educational opportunities has been limited. The diversity within regions will be addressed through the establishment of the Local Partner Networks by the Regional Interpreter Education Centers. We will consider these comments and factors in developing any notice inviting applications for awards under this program.

Change: None.

Comments: Eight commenters stated that to improve the education of interpreters a research component should be added to the priorities through the collection, analysis, and reports to RSA. This research could incorporate the pre- and post-assessment data of the education activities conducted in the Regional Interpreter Education Center or Centers and other data already available in the field.

Discussion: While we understand the need for research related to interpreter education and practice, RSA does not have the authority to conduct research through this program. The data collection, analysis, and reporting that is required under these priorities is for the purpose of ensuring accountability for program performance and results. The comments related to the need for research in the area of interpreter training and services will be forwarded to the National Institute on Disability and Rehabilitation Research for their consideration.

Change: None.

Comments: Four commenters stated that the National Interpreter Education Center should set up a national dissemination effort through the creation and maintenance of an electronic resource center that is accessible via the World Wide Web, so that resources are available for interpreter educators as well as practitioners.

Discussion: RSA already maintains a national dissemination center for all training grants, the National Clearinghouse of Rehabilitation Training Materials (NCRTM), at this Web site, www.nchrtm.okstate.edu/ The National Interpreter Education Center will be responsible for providing all materials to the NCRTM.

Change: None.

Comments: Three commenters stated that training with specialized focus should be emphasized as one of the most important activities of the Regional Interpreter Education Center or Centers, as the field of interpreting is becoming increasingly specialized.

Discussion: We agree that interpreting in specialized environments is a critical component of interpreter education, and this is emphasized in Priority 2—Regional Interpreter Education Center or Centers.

Change: None.

Note: This notice does not solicit applications. In any year in which we choose to use these priorities and definitions, we invite applications through a notice in the Federal Register. When inviting applications, we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priorities

Definitions: For the purposes of these priorities, we use the following definitions:

Deaf means individuals who are deaf, hard of hearing, late deafened, or deaf-blind. The term makes no reference or judgment of preferred mode of communication or language preference.

Interpreter means individuals, both hearing and deaf, who provide interpreting or transliterating, or both, for deaf, hard of hearing, and deaf-blind individuals using a variety of languages and modes of communication including, but not limited to, American Sign Language, Conceptually Accurate Signed English, other forms of signed English, oral communication, tactile communication, and cued speech.

Local Partner Network means a formal network of individuals, organizations, and agencies including consumers, consumer organizations, community resources, service providers (especially VR agencies), VR State coordinators for the deaf, rehabilitation counselors for the deaf, and other appropriate entities with whom the Regional Interpreter Education Center will have Memoranda of Understanding or other recognized mechanisms for the provision of educational activities for interpreters.

National Interpreter Education Center means a project supported by RSA to—(1) coordinate the activities of the Regional Interpreter Education Centers; (2) ensure the effectiveness of the educational opportunities offered by the Regional Interpreter Education Centers; (3) ensure the effectiveness of the program as a whole by evaluating and reporting outcomes; (4) provide technical assistance to the field on effective practices in interpreter education; and (5) provide educational opportunities for interpreter educators.

Novice interpreter means an interpreter who has graduated from an interpreter training program and demonstrates language fluency in American Sign Language and in English, but lacks experience working as an interpreter.

Qualified interpreter means an interpreter who is able to interpret effectively, accurately, and impartially both receptively and expressively, using any necessary specialized vocabulary. This definition, which is mentioned in the Senate Report for the Rehabilitation Act Amendments of 1998, Senate Report 105-166 (Second Session 1998), is one way for States to determine if interpreters are sufficiently qualified and is based on the standard specified in the regulations implementing titles II and III of the Americans with Disabilities Act of 1990.

Regional Interpreter Education Center means a coordinated regional center to provide quality educational opportunities for interpreters at all skill levels.

Training and education will be used interchangeably.

Priority 1—National Interpreter Education Center

The purpose of this priority is to support a National Interpreter Education Center (National Center) to coordinate the activities of the Regional Interpreter Education Center or Centers, to ensure the effectiveness of the educational opportunities offered by the Regional Interpreter Education Center or Centers, to ensure the effectiveness of the program as a whole by evaluating and reporting outcomes, to provide technical assistance to the field on effective practices in interpreter education, and to provide educational opportunities for interpreter educators. In conducting its activities, the National Center must ensure the provision of quality educational opportunities with substantial consumer involvement throughout the process and with a specific focus on interpreting for consumers of VR services.

The National Center funded under this priority must do the following:

(a) Identify and promote effective practices in interpreter education and provide technical assistance to the Regional Interpreter Education Center or Centers and the field on effective practices in interpreter education.

(b) Provide educational opportunities (based on the model curriculum developed for interpreter educators under Grant Number H160C030001) to working interpreter educators who need to obtain, enhance, or update their training on effective practices in interpreter education and to new interpreter educators.

(c) Promote improved education of interpreters and coordinate the interpreter education activities of the Regional Interpreter Education Center or Centers by—

(1) Developing “Program Quality Indicators” for this program, including the Regional Interpreter Education Center or Centers, and measuring performance against these indicators;

(2) Conducting education needs assessments and, based on the results, developing educational activities for delivery through the Regional Interpreter Education Center or Centers;

(3) Collecting, analyzing, and reporting to RSA the pre- and post-assessment data of the educational activities conducted through the Regional Interpreter Education Center or Centers;

(4) Ensuring that educational opportunities are available to individuals from a variety of cultural and linguistic backgrounds and are sensitive to the needs of those audiences; and

(5) Ensuring that deaf consumers are involved in every aspect of the project.

(d) Develop effective products for use by the Regional Interpreter Education Center or Centers in support of their educational activities for interpreters (e.g., CDs, DVDs, Web-based materials, etc.).

(e) Promote the educational activities of the Regional Interpreter Education Center or Centers and disseminate information to the field through activities such as— developing and maintaining a program Web site; providing materials to the RSA-sponsored National Clearinghouse on Rehabilitation Training Materials; developing and using Web-based activities such as e-newsletters, interpreter forums, consumer forums, events calendars, etc.; making presentations on results of project activities at national conferences related to interpreting and interpreter education; and making presentations on results of project activities at consumer conferences.

(f) Collect, evaluate, and report to RSA on qualitative and quantitative data on the educational activities of the Regional Interpreter Education Center or Centers. Data must be based on clear, measurable goals that are clearly linked to results.

(g) Use the data about the individual educational activities to demonstrate overall program effectiveness. Data must be based on clear, measurable goals that are clearly linked to results.

(h) Coordinate all activities conducted under this program, including the activities of the National Center and the Regional Interpreter Education Center or Centers, to ensure effective use of resources and consistency of quality interpreter educational opportunities to individuals in all geographic areas of the country.

(i) Set aside 10 percent of the project's annual budget submitted to RSA to cover the costs of specific collaborative activities between the National Center and the Regional Interpreter Education Center or Centers including, but not limited to, travel, communications, materials development, Web site development, and other collaborative efforts.

Fourth and Fifth Years of Project:

In deciding whether to continue this project for the fourth and fifth years, the Secretary will consider the requirements of 34 CFR 75.253(a) for continuation awards.

The Secretary will also consider the following:

(a) The recommendation of a review team consisting of experts selected by the Secretary. The team will conduct its review in Washington, DC, during the first half of the project's third year. A project must budget for the travel associated with this one-day intensive review.

(b) The timeliness and effectiveness with which all requirements of the award have been or are being met by the project.

(c) Evidence of the degree to which the project's activities have contributed to changed practices and improved the quality of interpreters.

Priority 2—Regional Interpreter Education Center or Centers

The purpose of this priority is to support a coordinated Regional Interpreter Education Center or Centers to provide quality educational opportunities for interpreters at all skill levels. The educational opportunities provided by a Regional Interpreter Education Center, through collaboration with Local Partner Networks and with substantial involvement from deaf consumers, must be of sufficient scope and sequence to demonstrate an increased skill and knowledge base of the participants through the use of pre- and post-assessments. The pre- and post-assessments will measure the knowledge and skill base of the participants, both when first entering the training program and when exiting the training program, to demonstrate their enhanced knowledge and skills as interpreters as a result of the training opportunity. In addition, the primary focus of the educational opportunities must be on interpreting for consumers of VR services. Consequently, this means educating hearing and deaf interpreters to work with consumers from diverse cultural and linguistic backgrounds in diverse environments (i.e., urban, rural, low socioeconomic, territories, etc.) and within a variety of contexts (i.e., employment, job training, technical, medical, etc.).

Further, the educational opportunities must encompass both skill-based and knowledge-based topics, provide for both hearing interpreters and deaf interpreters, and focus on interpreting for a variety of individuals who have communication skills along the full spectrum of language from those with limited language skills to those with high-level, professional language skills. Educational opportunities must be provided for interpreters from all skill levels from novice to advanced, and the skill level of the training must be clearly identified. All training activities must involve cooperative efforts with consumers, consumer organizations, community resources, and service providers, especially VR agencies, VR State coordinators for the deaf, and rehabilitation counselors for the deaf. Delivery of educational opportunities may not be limited to traditional methods. Distance technologies and delivery, use of teams of deaf and hearing presenters, assignment of mentors, immersion experiences, intensive institutes, and other innovative practices must be used.

A Regional Interpreter Education Center funded under this priority also must do the following:

(a) Develop formal relationships with Local Partner Networks as defined in this notice.

(b) In collaboration with the National Center, Local Partner Networks, and consumers, implement effective practices in interpreter education.

(c) In collaboration with the National Center, Local Partner Networks, and consumers, implement the “Program Quality Indicators” for this program.

(d) Coordinate with existing interpreter training programs to identify and conduct outreach activities with recent and new graduates in order to provide training, including mentoring, to make them work-ready.

(e) In collaboration with the National Center, Local Partner Networks, and consumers, provide skill-based, context-based, and knowledge-based interpreter education activities of significant scope and sequence to interpreters in the identified region. Products developed by the National Center must be incorporated into the educational activities to the greatest extent appropriate. Educational opportunities must include, but not be limited to—

(1) Educating deaf individuals and practicing deaf and hearing interpreters to serve as mentors and provide mentoring to novice and working interpreters who need additional feedback and experience to become qualified;

(2) Addressing the various linguistic and cultural preferences within the deaf, hard of hearing, and deaf-blind communities through strands of specialized interpreter education;

(3) Focusing on interpreting in specialized environments such as rehabilitation, legal, medical, mental health, or multicultural environments, working with specific populations such as deaf-blind, oral, trilingual (including those who are fluent in spoken English and spoken Spanish along with both American Sign Language and Mexican Sign Language or other sign languages used by Spanish-speaking communities), or cued speech users, and improving specific skill sets such as sign-to-voice interpreting, team interpreting, sight translation, or ethical decisionmaking and professionalism;

(4) Developing interpretation and transliteration competencies for interpreters working with deaf, hard of hearing, and deaf-blind individuals with differing modes of communication, including, but not limited to, the use of language immersion experiences in American Sign Language, Conceptually Accurate Signed English, oral communication, tactile communication, and cued speech;

(5) Using state-of-the-art technologies for training on how to deliver interpreter services from remote locations and in handling various technologies during interpreter assignments (e.g., microphones, assistive listening devices, cameras, lights, etc.); and

(6) Educating consumers on skills related to self-advocacy and working effectively with interpreters.

(f) In collaboration with the National Center, Local Partner Networks, and consumers, implement and deliver the specific educational activities identified in the education needs assessments.

(g) Provide information to the National Center for the purpose of promoting the educational activities of the National Center.

(h) Provide qualitative and quantitative data on the educational activities conducted, pre- and post-assessments, portfolios produced, participant demographics, and other pertinent information to the National Center for the purpose of evaluating program effectiveness.

(i) Coordinate and collaborate with the other Regional Interpreter Education Centers funded by RSA and funded through this priority.

(j) Set aside 10 percent of the project's annual budget submitted to RSA to cover the costs of specific collaborative activities between the National Center and the Regional Interpreter Education Center or Centers including, but not limited to, travel, communications, materials development, Web site development, and other collaborative efforts.

Fourth and Fifth Years of Project:

In deciding whether to continue a project for the fourth and fifth years, the Secretary will consider the requirements of 34 CFR 75.253(a) for continuation awards.

The Secretary will also consider the following:

(a) The recommendation of a review team consisting of experts selected by the Secretary. The team will conduct its review in Washington, DC, during the first half of the project's third year. A project must budget for the travel associated with this one-day intensive review.

(b) The timeliness and effectiveness with which all requirements of the award have been or are being met by the project.

(c) Evidence of the degree to which the project's activities have contributed to changed practices and improved quality of interpreters.

(d) Evidence of the degree to which the project's activities have served each State within its designated geographic region.

Priority 3—Programs Offering at Least a Bachelor's Degree in Interpreter Education

Within the existing priority from 34 CFR 396.33, we are establishing a priority to support applications from postsecondary institutions that offer and have awarded at least a bachelor's degree in interpreter education.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 385 and 396.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.160 Training of Interpreters for Individuals Who Are Deaf or Hard of Hearing and Individuals Who Are Deaf-Blind)

Program Authority: 29 U.S.C. 772(f).

Dated: July 28, 2005.
John H. Hager,
Assistant Secretary for Special Education and Rehabilitative Services.

[FR Doc. 05-15252 Filed 8-2-05; 8:45 am]

BILLING CODE 4000-01-P